DEPARTMENT OF AGRICULTURE

Submission for OMB Review; Comment Request

February 22, 2013.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical or other technological collection techniques or other forms of information technology.

Comments regarding this information collection received by April 1, 2013 will be considered. Written comments should be addressed to: Desk Officer for Agriculture, Office of Information and Regulatory Affairs, Office of Management and Budget (OMB), New Executive Office Building, 725—17th Street NW., Washington, DC, 20503. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

National Agricultural Statistics Service

Title: Agricultural Prices.

OMB Control Number: 0535-0003.

Summary of Collection: The Agricultural Prices surveys provide data on the prices received by farmers and prices paid for production goods and services. This information is needed by the U.S. Department of Agriculture, National Agriculture Statistics Service (NASS) for the following purposes: (a) To compute Parity Prices in accordance with requirements of the Agricultural Adjustment Act of 1938 as amended (Title III, Subtitle A, Section 301a, (b) to estimate value of production, inventory values, and cash receipts from farming, (c) to determine the level for farmer owned reserves, (d) to provide guidelines for Risk Management Agency price selection options, (e) to determine Federal disaster prices to be paid, and (f) to determine the grazing fee on Federal lands. General authority for these data collection activities is granted under U.S. Code Title 7, Section 2204.

Need and Use of the Information: The NASS price program computes annual U.S. weighted average prices received by farmers for grain and beans, corn, sugar, rice, cotton, peanuts, pulse crops and oilseeds based on monthly marketing. Prices estimates are used by many Government agencies as a general measure of commodity price changes, economic analysis relating to farm income and alternative marketing policies, and for disaster and insurance payments.

Description of Respondents: Farms; Business or other for-profit.

Number of Respondents: 53,530.

Frequency of Responses: Reporting: On occasion; Monthly; Annually; Biennially.

Total Burden Hours: 25,273.

National Agricultural Statistics Service

Title: Vegetable Surveys.

OMB Control Number: 0535-0037.

Summary of Collection: The primary function of the National Agricultural Statistics (NASS) is to prepare and issue current official state and national estimates of crop and livestock production, prices and disposition. The Vegetable Surveys Program obtains basic agricultural statistics for fresh market and processing vegetables in major producing States. The vegetable program has two types of utilization: some crops are processing only, some are fresh market only, and others are dual crops (both processing and fresh market). Vegetable processors are surveyed in August for acreage contracted and estimated yield. In late November, processors are asked for final acreage harvested, production, and value. The fresh market vegetable program consists of specialized growers who are surveyed at the conclusion of the growing season for estimates of crop production. Producers of onions, strawberries, and asparagus are surveyed in August to obtain forecasted acreage and production. NASS will collect information using surveys.

Need and Use of the Information: NASS will collect information to estimate acreage intended to plant, acreage planted, acreage harvested, yield/production, price, and utilization for the various crops. The estimates provide vital statistics for growers, processors, and marketers to use in making production and marketing decisions.

Description of Respondents: Farms; Business or other for-profit.

Number of Respondents: 33,064.

Frequency of Responses: Reporting: Annually; Other (seasonally).

Total Burden Hours: 9,066.

Charlene Parker,
Departmental Information Collection Clearance Officer.

[FR Doc. 2013-04644 Filed 2-27-13; 8:45 am]

BILLING CODE 3410-20-P\